DEPARTMENT OF TRANSPORTATION

Federal Highway Administration

Notice of Final Federal Agency Action on Proposed Highway in Georgia the Interstate 75 (I-75) Express, Clayton and Henry Counties, Georgia (Atlanta Metropolitan Area)

AGENCY: Federal Highway Administration (FHWA), DOT.

ACTION: Notice of Limitation on Claims for Judicial Review of Actions by Army Corps of Engineers (USACE).

SUMMARY: This notice announces actions taken by USACE and other Federal agencies that are final within the meaning of 23 U.S.C. 139(l)(1). The I-75 Express Lanes Project will design a managed lane system along I-75 from the SR 155 (Zack Hinton Parkway, South) interchange in Henry County north to the SR 138 (Stockbridge Highway) interchange in Clayton County located in Georgia. The project spans a distance of approximately 17.94 miles. Those actions grant licenses, permits and approvals for the project.

DATES: By this notice, the FHWA is advising the public of the final agency actions subject to 23 U.S.C. 139(l)(1). A claim seeking judicial review of the Federal agency action on the highway project will be barred unless the claim is filed on or before April 3, 2015. If the Federal law that authorizes judicial review of a claim provides a time period of less than 150 days for filing such claim, then that shorter time period still applies.

FOR FURTHER INFORMATION CONTACT: Mr. Rodney Barry, Division Administrator, Georgia Division, Federal Highway Administration, 61 Forsyth Street, Suite 17T100, Atlanta, Georgia 30303; 8:00 a.m. to 5:00 p.m. (eastern time) Monday through Friday, 404-562-3630; email: Rodney.Barry@dot.gov; for USACE: Edward Johnson, Chief, Regulatory Branch, U.S. Army Corps of Engineers, Savanah District-Piedmont Branch, 1590 Adamson Parkway, Suite 200, Morrow, Georgia, 30260-1777; telephone (678) 422-2235, Email: Edward.B.Johnson@usace.army.mil; and for Georgia Department of Transportation (GDOT): Mr. Keith Golden, Commissioner, Georgia Department of Transportation, 600 West Peachtree Street, 22th Floor, Atlanta, Georgia 30308, 8:00 a.m. to 5:00 p.m. (eastern time) Monday through Friday, Telephone: (404) 631-1005, Email: KGolden@dot.ga.gov. USACE's normal business hours are 8:00 a.m. to 5:00 p.m. (Eastern Time).

SUPPLEMENTARY INFORMATION: On July 5, 2013, the FHWA published a “Notice of Final Federal Agency Actions on Proposed Highway in Georgia” the Interstate 75 (I-75) Express located in Clayton and Henry Counties (Atlanta Metropolitan Area) in the Federal Register at [FR Doc. 2013-16112] for the following project: The I-75 Express lanes project consists of constructing managed lanes from the SR 155 (Zack Hinton Parkway, South) interchange in Henry County north to the SR 138 (Stockbridge Highway) interchange located in metropolitan Atlanta, Georgia. The Selected Alternative will construct managed lanes in Henry County at the I-75 Bridge over SR 155 and terminate in Clayton County approximately 600 feet south of the I-75 southbound on-ramp from SR 139 and at SR 139 on I-675. From SR 155 to approximately one mile south of Mt. Carmel Road, a single reversible lane will be constructed. The single lane will then transition to two reversible lanes, which will continue to the northern terminus of the facility. Intelligent Transportation System infrastructure will be constructed to support the usage of the managed lanes. The facility will include improvements of approximately 17.94 miles on I-75. Congestion on this facility will be managed by electronic toll lane (ETL). The purpose of the project is listed below:

• Consistency with regional transportation planning initiatives

• Provide reliable trip times and mobility

• Improve travel choices

• Expedite project delivery through the use of tolling for financing (construction financing implications)

• Reduce congestion

• Accommodate regional growth and accessibility.

The actions by the Federal agencies and the laws under which such actions were taken are described in the Draft Environmental Assessment (DEA), Final Environmental Assessment (EA) and in the FHWA Finding of No Significant Impact (FONSI) approved on March 12, 2013 and June 28, 2013 respectively, and in other documents in the FHWA project records. Notice is hereby given that, subsequent to the earlier FHWA notice, the USACE has taken final agency actions within the meaning of 23 U.S.C. 139(1)(1) by issuing a permit and approval for the highway project. The actions of the USACE, related final actions by other Federal agencies, and the laws under which such actions were taken are described in the USACE decisions and its project records, referenced as [SAS-2012-00385]. This information by contacting the USACE at the address provided above.

Information about the project and project records are available from FHWA and the Georgia Department of Transportation (GDOT) at the addresses provided above. The FHWA National Environmental Policy Act (NEPA) documents such as DEA, FEA/FONSI, the reevaluated FEA/FONSI and other project records are available by contacting FHWA or GDOT at the addresses listed above. The FHWA EA/FONSI, can be reviewed and downloaded from the project Web site at http://www.I75Express.com or at the following offices: GDOT District 3 Area Office, 115 Transportation Boulevard, Thomaston, Georgia 30286; GDOT District 7 Office, 5025 New Peachtree Road, Chamblee, Georgia 30341; McDonough Public Library, 1001 Florence McGarity Boulevard, McDonough, Georgia 30252; Cochran Public Library, 174 Birch Street, Stockbridge, Georgia 30281 and Clayton County Library System, Morrow Branch, 6225 Maddox Road, Morrow, Georgia 30260. The USACE decision can be viewed and downloaded from the project Web site at [http://www.I75Express.com] or viewed at public libraries in the project area listed above. Paper copies are available on request by contacting Loren Bartlett, Georgia Department of Transportation, 600 West Peachtree Street, 22th Floor, Atlanta, Georgia 30308, Telephone: (404) 631-1642, Email: lbartlett@dot.ga.gov. This notice applies to all USACE and other Federal agency final actions taken after the issuance date of the FHWA Federal Register notice described above. The laws under which actions were taken include, but are not limited to:

1. Wetlands and Water Resources: Clean Water Act (Section 404).

(Catalog of Federal Domestic Assistance Program Number 20.205, Highway Planning and Construction. The regulations implementing Executive Order 12372 regarding intergovernmental consultation on Federal programs and activities apply to this program)

Authority: 23 U.S.C. 139(l)(1), as amended by Moving Ahead for Progress in the 21st Century Act (MAP-21), Public Law 112-141, § 1308, 126 Stat. 405 (2012).

Issued On: October 28, 2014.
Rodney Barry,
Division Administrator, Atlanta, Georgia.

[FR Doc. 2014-26134 Filed 11-3-14; 8:45 am]

BILLING CODE P